DEPARTMENT OF ENERGY

Federal Energy Regulatory Commission

[Docket No. RP00-417-001]

Colorado Interstate Gas Company; Notice of Tariff Compliance Filing

September 12, 2000.

Take notice that on September 7, 2000, Colorado Interstate Gas Company (CIG), tendered for filing to become part of its FERC Gas Tariff, First Revised Volume No. 1, Fourth Revised Sheet No. 110, to be effective September 1, 2000.

CIG states that pursuant to FERC Commission Order, dated August 31, 2000, this compliance filing is being made to correct the pagination from Third Revised Sheet No. 110 to Fourth Revised Sheet No. 110.

CIG further states that copies of this filing have been served on CIG's jurisdictional customers and public bodies.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-23837 Filed 9-15-00; 8:45 am]

BILLING CODE 6717-01-M